COMMITTEE FOR PURCHASE FROM PEOPLE WHO ARE BLIND OR SEVERELY DISABLED

Procurement List Additions

AGENCY: Committee for Purchase From People Who Are Blind or Severely Disabled.

ACTION: Additions to the Procurement List.

SUMMARY: This action adds products and services to the Procurement List that will be furnished by nonprofit agencies employing persons who are blind or have other severe disabilities.

DATES: Effective Date: June 26, 2010.

ADDRESSES: Committee for Purchase From People Who Are Blind or Severely Disabled, Jefferson Plaza 2, Suite 10800, 1421 Jefferson Davis Highway, Arlington, Virginia, 22202-3259.

FOR FURTHER INFORMATION CONTACT: Patricia Briscoe, Telephone: (703) 603-7740, Fax: (703) 603-0655, or e-mail CMTEFedReg@AbilityOne.gov.

SUPPLEMENTARY INFORMATION:

Additions

On 1/22/2010 (75 FR 3714); 3/19/2010 (75 FR 13263-13264); 4/9/2010 (75 FR 18164-18165); and 4/30/2010 (75 FR 22744-22745), the Committee for Purchase From People Who Are Blind or Severely Disabled published notices of proposed additions to the Procurement List.

Glove, Mechanic's

A commercial company submitted comments objecting to the proposed addition. The comments from the company states that they manufacture gloves they claim “could be considered similar” to the gloves identified in the notice of proposed addition to the Procurement List. The company asserts that the nonprofit agency identified to produce the gloves described in the proposed Procurement List addition notice also packages and distributes other gloves in a manner which may violate certain federal statutes. The company asserts that the packaging and distribution of already manufactured products adds minimal value and does not constitute substantial transformation of the product sufficient to place the item on the Procurement List.

In this instance, the description of the work performed by the nonprofit agency sufficiently describes the actions the employees who are blind or have other severe disabilities will perform in order to provide the gloves to the government. The remaining claims of the company are speculative in nature and not related to the particular product being considered by the Committee. Nonetheless, the nonprofit agency provided a letter that certifies its intent to provide the mechanic's gloves in compliance with the Acts cited by CamelBak in its correspondence to the Committee. Therefore, in accordance with its statutory and regulatory obligations, the Committee has evaluated this project and determined it suitable for addition to the Procurement List.

Gloves, Impact

The Committee for Purchase From People Who Are Blind or Severely Disabled (Committee) operates pursuant to statutory and regulatory requirements. Committee regulations states that for a commodity or service to be suitable for addition to the Procurement List each of the following criteria must be satisfied: employment potential; nonprofit agency qualifications, capability, and level of impact on the current contractor for the commodity or service.

A commercial company submitted comments objecting to the proposed addition. The comments from the company states that they manufacture gloves they claim “could be considered similar” to the gloves identified in the notice of proposed addition to the Procurement List. The company asserts that the nonprofit agency identified to produce the gloves described in the proposed Procurement List addition notice, also packages and distributes other gloves in a manner which may violate the Trade Agreement Act. The company further states that the subject gloves may be manufactured in Bangladesh of non-U.S. components and, therefore, the packaging of the subject gloves by the designated nonprofit does not constitute substantial transformation and thus is a misuse of the Procurement List addition process.

The Committee's responsibility under the Javits-Wagner-O'Day Act (41 U.S.C. 46-48c) is to promote employment opportunities for people who are blind or with other severe disabilities that have an unemployment rate far above people without severe disabilities. In this instance, the description of the work performed by the nonprofit agency, where they will obtain their raw materials, and the actual sewing and packaging process they will provide, sufficiently describes the actions the employees who are blind or have other severe disabilities will perform in order to provide the gloves to the government. The claims of the company are speculative in nature and not related to the particular product being considered by the Committee. Nonetheless, the nonprofit agency provided a letter that certifies its intent to provide the impact gloves in compliance with the Acts cited by CamelBak in its correspondence to the Committee.

The Committee followed its regulatory requirements in considering this project and has determined that this project is suitable for addition to the Procurement List. Addition of this project to the Procurement List will result in employment for people who are blind or have other severe disabilities.

Dining Facility Attendant Service and Cook Support, Joint Base Lewis-McChord, WA

The Committee for Purchase From People Who Are Blind or Severely Disabled (Committee) operates pursuant to statutory and regulatory requirements. Committee decisions on what items are suitable for addition to the Procurement List (PL) are specifically guided by regulations in 41 CFR Chapter 51. In order for a commodity or service to be suitable for addition to the PL, each of the following criteria must be satisfied: employment potential; nonprofit agency qualifications, capability, and level of impact on the current contractor for the commodity or service.

The specific service in this instance is dining facility attendant service and cook support at Joint Base Lewis and McChord (JBLM). Currently there are 3 food service contracts in place for Fort Lewis and McChord AFB. Only one of those is a full food service contract under the Randolph-Sheppard Act and awarded through the WDSB—the full food service contract for Fort Lewis. The remaining 2 contracts are for dining facility attendants at Fort Lewis and McChord, and are not under the Randolph-Sheppard Act. Additionally, these contracts were not awarded through WDSB. This proposed PL Addition includes only dining facility attendant service and cook support at JBLM. It does not include the full food service contract in place at Fort Lewis that is in the Randolph-Sheppard Act program and awarded through WDSB. Therefore, the proposed addition does not violate section 856 of the FY2007 NDAA.

Committee members, having considered the comments from WSDB, NFB, and the current contractor regarding the full food service contract, have determined that this proposed addition of dining facility attendant service and cook support at JBLM meets the Committee statutory and regulatory requirements and will be added to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Glove, Mechanic's

NSN: 8415-01-501-1557—Extra-Extra-Large, Black—1 PR

NSN: 8415-01-497-5987—Extra-Large, Black—1 PR

NSN: 8415-01-497-5389—Black, Large—1 PR

NSN: 8415-01-497-5384—Medium, Black—1 PR

NSN: 8415-01-497-5381—Small, Black—1 PR

Gloves, Impact

NSN: 8415-01-498-4968—Extra-Extra-Large, Black

NSN: 8415-01-498-4966—Extra-Large, Black

NSN: 8415-01-498-8180—Large, Black

NSN: 8415-01-498-4964—Medium, Black

NSN: 8415-01-497-7265—Small, Black

NPA: South Texas Lighthouse for the Blind, Corpus Christi, TX.

Contracting Activity: Department of Veterans Affairs, NAC, Hines, IL.

Coverage: C-List for 100% of the requirements for the Department of Veterans Affairs, National Acquisition Center, Hines, IL.

Services

Service Type/Location: Janitorial Service, Marine Corp Base Hawaii, Bldgs 6036, 6677 and Hangers 103 and 104, Kaneohe Bay, HI.

NPA: Opportunities for the Retarded, Inc., Wahiawa, HI.

Contracting Activity: Dept of the Navy, NAVFAC Engineering Command, Hawaii, Pearl Harbor, HI.

Service Type/Location: Dining Facility Attendant Service and Cook Support, Joint Base Lewis-McChord, WA.

NPA Prime Contractor: Lakeview Center, Pensacola, FL.

NPA Subcontractor: Goodwill Contracting Services Inc., Tacoma, WA.

Contracting Activity: Mission & Installation Contracting Command Center-Fort Knox (MICC CEN-FTK), Ft Knox, KY.

Patricia Briscoe,
Deputy Director, Business Operations.

[FR Doc. 2010-15488 Filed 6-24-10; 8:45 am]

BILLING CODE 6353-01-P